DEPARTMENT OF LABOR

Mine Safety and Health Administration

Technical Study Panel on the Utilization of Belt Air and the Composition and Fire Retardant Properties of Belt Materials in Underground Coal Mining

AGENCY: Mine Safety and Health Administration (MSHA), Labor.

ACTION: Notice of meeting.

SUMMARY: This notice informs interested persons of the third meeting of the Technical Study Panel (Panel) on the Utilization of Belt Air and the Composition and Fire Retardant Properties of Belt Materials in Underground Coal Mining. The public is invited to attend.

DATES: The meeting will be held on May 16-17, 2007. The meetings will start at 9 a.m. each day and conclude by 5 p.m.

ADDRESSES: The meeting location is the Salt Lake Plaza Hotel at Temple Square, 122 West South Temple, Salt Lake City, UT 84101. (Telephone: 801-521-0130).

FOR FURTHER INFORMATION CONTACT: Patricia W. Silvey, Director, Office of Standards, Regulations, and Variances, Mine Safety and Health Administration, 1100 Wilson Boulevard, Room 2350, Arlington, Virginia 22209; silvey.patricia@dol.gov (internet e-mail), 202-693-9440 (voice), or 202-693-9441 (facsimile).

SUPPLEMENTARY INFORMATION: The Panel was created under section 11 of the Mine Improvement and New Emergency Response (MINER) Act of 2006 (Pub. L. 109-236). The purpose of the Panel is to provide independent scientific and engineering review and recommendations concerning the utilization of belt air and the composition and fire retardant properties of belt materials in underground coal mining. By December 2007, the Panel must submit a report to the Secretaries of Labor and Health and Human Services, the Senate Committee on Health, Education, Labor and Pensions, and the House Committee on Education and the Workforce. The first meeting of the Panel was held in Washington, DC on January 9-10, 2007. The second meeting of the Panel was held in Coraopolis, PA on March 28-30, 2007.

The agenda for the third meeting will include:

(1) Belt air ventilation issues.

(2) Ground control/convergence issues surrounding two-entry development in western underground coal mines.

(3) MSHA Aracoma Alma Mine #1 accident investigation report.

(4) Public input.

The panel will allocate time at the end of each day for presentations by members of the public. MSHA expects the amount of time allocated for public participation to be approximately one hour, but it may vary based on the interest expressed by the public. MSHA will also accept written submissions.

MSHA requests that persons planning to participate in the public input session of this meeting notify the Agency at least one week prior to the meeting date. There will be an opportunity for other persons, who have not made prior arrangements with MSHA and wish to speak, to register at the beginning of the meeting each day. Speakers should limit their presentations to five minutes, but may supplement oral remarks with written submissions. MSHA will incorporate written submissions into the official record, which includes a verbatim transcript, and make them available to the public. The Panel Chairman will moderate the public participation session, and panelists may ask the speakers questions.

The public may inspect the official record of the meetings at the MSHA address listed above under the heading FOR FURTHER INFORMATION CONTACT. In addition, this information will be posted on the Agency's single source webpage titled “The Technical Study Panel on the Utilization of Belt Air and the Composition and Fire Retardant Properties of Belt Materials in Underground Coal Mining Single Source Page.” The Single Source page is located at http://www.msha.gov/BeltAir/BeltAir.asp.

Dated: April 27, 2007.
Robert M. Friend,
Deputy Assistant Secretary for Mine Safety and Health.

[FR Doc. 07-2160 Filed 4-27-07; 3:12 pm]

BILLING CODE 4510-43-P